DEPARTMENT OF THE INTERIOR

Fish and Wildlife Service

Issuance of Permit for Incidental Take of Threatened Species for the Monument Creek Interceptor Tie-In Project Along Jackson Creek, El Paso County, CO

AGENCY: Fish and Wildlife Service, Interior.

ACTION: Notice of issuance of permit for incidental take of endangered species.

SUMMARY: On February 15, 2005, a notice was published in the Federal Register (Vol. 70, No. 30, FR 7754), that an application had been filed with the U.S. Fish and Wildlife Service (Service) by the Triview Metropolitan District and Forest Lakes Metropolitan District for a permit to incidentally take, pursuant to section 10(a)(1)(B) of the Endangered Species Act of 1973 (16 U.S.C. 1539) as amended, Preble's meadow jumping mouse (Zapus hudsonius preblei), pursuant to the terms of the “Low-Effect Habitat Conservation Plan for Issuance of an Endangered Species Act Section 10(a)(1)(B) Permit for the Incidental Take of the Preble's Meadow Jumping Mouse (Zapus hudsonius preblei) for the Monument Creek Interceptor Tie-In Along Jackson Creek, El Paso County, Colorado.”

Notice is hereby given that on June 30, 2005, as authorized by the provisions of the Endangered Species Act, the Service issued a permit (TE-097228-0) to the above named party subject to certain conditions set forth therein. The permit was granted only after the Service determined that it was applied for in good faith, that granting the permit will not be to the disadvantage of the threatened species, and that it will be consistent with the purposes and policy set forth in the Endangered Species Act, as amended.

Additional information on this permit action may be requested by contacting the Colorado Field Office, 755 Parfet Street, Suite 361, Lakewood, Colorado 80215, telephone (303) 275-2370, between the hours of 7 a.m. and 4:30 p.m. weekdays.

Dated: July 8, 2005.
Mike Stempel,
Acting Regional Director, Denver, Colorado.

[FR Doc. 05-14503 Filed 7-21-05; 8:45 am]

BILLING CODE 4310-55-P